DEPARTMENT OF TRANSPORTATION

Pipeline and Hazardous Materials Safety Administration

[Docket Nos. PHMSA-98-4470, PHMSA-2004-18938, and PHMSA-2004-18584]

Pipeline Safety: Meetings of the Pipeline Safety Standards Advisory Committees and Two Public Workshops

AGENCY: Pipeline and Hazardous Materials Safety Administration (PHMSA), Department of Transportation (DOT).

ACTION: Notice of advisory committee meetings and two workshops.

SUMMARY: This notice announces public meetings of PHMSA's Technical Pipeline Safety Standards Committee (TPSSC) and Technical Hazardous Liquid Pipeline Safety Standards Committee (THLPSSC). The Committees will discuss regulatory issues and vote on two rulemaking proposals: Integrity management program changes and clarifications, and design and construction standards to reduce internal corrosion in gas transmission pipelines. In conjunction with the advisory committee meetings, PHMSA will hold two public workshops.

PHMSA will hold a half day public workshop on Hazardous Liquid Low Stress Pipelines to solicit comments on a risk-based approach to protecting unusually sensitive areas from risks associated with low stress lines. PHMSA also will conduct a public workshop to discuss the effectiveness of pipeline control room operations and to obtain comments on ways to enhance the effectiveness of pipeline control room operations and on findings from the Controller Certification Project (CCERT).

Dates and Times: PHMSA will hold advisory committee meetings and public workshops on June 26-28, 2006. The dates and times are:

• Monday, June 26 from 1 p.m. to 5 p.m.—THLPSSC and Public Workshop on Hazardous Liquid Low Stress Pipelines.

• Tuesday, June 27 from 8 a.m. to 5 p.m.—THLPSSC/TPSSC Public Workshop on Effectiveness of Pipeline Control Room Operations.

• Wednesday, June 28 from 8 a.m. to 9 a.m.—THLPSSC Meeting to vote on the NPRM to address integrity management modifications.

• Wednesday, June 28 from 9:30 a.m. to 4:30 p.m.—Joint meetings of the THLPSSC and TPSSC.

• Wednesday, June 28 from 5 p.m. to 6 p.m.—TPSSC meeting to vote on the NPRM to address internal corrosion in gas transmission pipelines.

ADDRESSES: The meetings will be at the Hilton Alexandria Old Town, 1767 King Street, Alexandria, Virginia, 22314. Telephone: 1-703-837-0440, Fax 1-703-837-0454.

FOR FURTHER INFORMATION CONTACT: • Technical Advisory Committee Meetings: Cheryl Whetsel (202) 366-4431, cheryl.whetsel@dot.gov;

• Hazardous Liquid Low Stress Lines Public Workshop: Dewitt Burdeaux (405) 954-7220, dewitt.burdeaux@dot.gov or Chris Hoidal (720) 963-3171, chris.hoidal@dot.gov; and

• Effectiveness of Pipeline Control Room Operations Public Workshop: Byron Coy (609) 989-2180, byron.coy@dot.gov.

SUPPLEMENTARY INFORMATION:

General Meeting Details

Attendees staying at the hotel must make reservations by Friday, May 26. The phone number for reservations at the hotel is 1-800-HILTONS (445-8667). The hotel will give priority to the Committee members and State Pipeline Safety Representatives for rooms blocked under “DOT Technical Advisory Committee Meetings.”

PHMSA plans to hold panel discussions during the public workshops. Individuals interested in participating as a panelist/commenter during the workshops should contact the individual listed under FOR FURTHER INFORMATION CONTACT. Members of the public may make short statements on the topics under discussion during the advisory committee sessions. Anyone wishing to make an oral statement should contact one of the individuals listed under FOR FURTHER INFORMATION CONTACT by June 9, with the topic and the estimated time needed to present. The presiding officer at each meeting may deny a request to present an oral statement based on time availability.

You may send written comments by mail or deliver them to the Dockets Facility, U.S. Department of Transportation, Room PL-401, 400 Seventh Street, SW., Washington, DC 20590-0001. The Dockets Facility is open from 9 a.m. to 5 p.m., Monday through Friday, except Federal holidays. You also may send written comments to the docket electronically by logging onto the following Internet Web address: http://dms.dot.gov. Click on “Help & Information” for instructions on how to file a document electronically. All written comments should reference docket number PHMSA-98-4470 for advisory committee issues; PHMSA-2004-18938 for hazardous liquid low stress line issues; and PHMSA-2004-18584 for controller certification issues. Anyone who would like confirmation of mailed comments must include a self-addressed stamped postcard. These dockets will remain open pending the completion of a rulemaking.

Privacy Act Statement: Anyone may search the electronic form of all comments received for any of our dockets. You may review DOT's complete Privacy Act Statement in the Federal Register published on April 11, 2000 (65 FR 19477) or you may visit http://dms.dot.gov.

Information on Services for Individuals with Disabilities: For information on facilities or services for individuals with disabilities, or to request special assistance at the meeting, please contact Cheryl Whetsel at (202) 366-4431 by June 2.

Background of Technical Advisory Committees

The TPSSC and the THLPSSC are statutorily mandated advisory committees advising PHMSA on proposed safety standards, risk assessments, and safety policies for natural gas and hazardous liquid pipelines. These advisory committees are established under section 9(c) (App. 2) of the Federal Advisory Committee Act (Pub. L. 92-463) (5 U.S.C. App. 1). The committees consist of 15 members—five each representing government, industry, and the public. The TPSSC and the THLPSSC determine reasonableness, cost-effectiveness, and practicability of PHMSA's regulatory initiatives.

Federal law requires PHMSA to submit cost-benefit analysis and risk assessment information on each proposed safety standard to the advisory committees. The committees evaluate the merits of the data and methods used within the analysis, and when fitting, provide recommendations about the cost-benefit analysis.

Hazardous Liquid Low Stress Line Public Workshop

June 26 (1 p.m. until 5 p.m.)

On Monday, June 26 in conjunction with the THLPSSC meeting, PHMSA will hold a half day public workshop on protecting unusually sensitive areas from hazardous liquid low stress lines.

Background on Regulation of Hazardous Liquid Low Stress Lines

The original safety regulations for hazardous liquid pipelines did not apply to low stress pipelines. Because of their low operating pressures and minimal accident history, the agency thought low stress hazardous liquid pipelines posed little risk to public safety. Following a prominent accident in 1990 involving the spill of about 500,000 gallons of heating oil from an underwater Exxon pipeline in Arthur Kill Channel in New York, PHMSA began rulemaking on hazardous liquid low stress lines. Further, in the Pipeline Safety Act of 1992, Congress provided guidance for the rulemaking by limiting the authority to exempt a pipeline from regulation solely because it operated at a low stress level.

In 1990, PHMSA published an advance notice of proposed rulemaking (ANPRM) on low stress pipelines. (55 FR 45822; October 31, 1990.) In the ANPRM, PHMSA sought information about the costs and benefits of regulating low stress lines. The analysis of the data received in response to the ANPRM showed regulation of all low stress pipelines could impose costs disproportionate to benefits. PHMSA, therefore, focused on those low stress pipelines that posed a higher risk to people and the environment. The risk factors identified were the commodity in transportation and the location of the pipeline.

In 1993, PHMSA published an NPRM proposing to apply parts 195 and 199 to low stress transmission pipelines that transport highly volatile liquids, traverse a populated area or traverse a navigable waterway (58 FR 12213; March 3, 2003). In 1994, PHMSA committed to consider regulating rural low stress lines in a future rulemaking based on locations and other risk factors. The agency said that it was developing a better concept of what constitutes an environmentally sensitive area for purposes of pipeline regulation and this would provide the groundwork for the future rulemaking on rural low stress lines. PHMSA said it needed the time to learn the extent to which low stress pipeline spills affect environmentally sensitive areas. It believed the definition used in the part 194 (Response Plans for Onshore Oil Pipelines) was too broad for part 195.

In 2000, PHMSA issued a final rule to define unusually sensitive areas (USAs) (65 FR 246). In this rule, PHMSA noted its 1994 decision to defer regulating nonvolatile products in low stress pipelines in rural sensitive areas since there was not a definition. It further noted its intention to reconsider the issue once there was a sensitive area definition. In 2000, PHMSA defined protection of USAs for most hazardous liquid pipelines through its integrity management regulations. This meeting is a crucial step in gathering information needed to complete the protection of USAs from risks of spills from hazardous liquid low stress lines.

PHMSA has gathered data from State agencies and industry and evaluated several accidents that involve hazardous liquid low stress lines. Based on its evaluation of data and comments received earlier on this issue, PHMSA would like to consider a risk-based approach to addressing unregulated hazardous liquid low stress lines. PHMSA would require operators of these lines to follow certain safety rules for design, construction, testing, and maximum operating pressure. It would also require these operators to protect the lines from corrosion and excavation damage, provide public education, operator qualification, and report accident and safety-related conditions.

Preliminary Agenda—Workshop Questions for Hazardous Liquid Low Stress Lines

During the public workshop, PHMSA plans to present its viewpoint and then hold panel discussions. The agency seeks comments on its risk-based approach to addressing unregulated low stress lines. In discussion of concepts, PHMSA asks interested parties to discuss the following agenda topics:

Criteria for Applicability of Regulation

PHMSA believes it should regulate any pipeline that affects USAs, including those not crossing a public domain.

• Should low stress lines that remain on leased property or low stress lines not crossing into a public domain be considered a transportation pipeline?

• Should PHMSA only regulate pipelines that intersect or could affect USAs?

Use of Buffer Zones

PHMSA is considering using the criteria in part 194 to determine whether a low stress line could affect a USA.

• In determining whether a low stress line could affect a USA, should PHMSA use criteria similar to the requirements in part 194 or are there other tried and tested criteria, such as buffer zones, we should consider?

Physical Pipeline Characteristics

PHMSA believes it may be appropriate to regulate pipelines containing a certain amount of product by volume.

• Throughput: What is the average daily throughput, and type of product transported?

• Location: Where are low stress lines geographically located?

• Diameter: What are the diameter ranges for pipelines transporting products through low stress pipelines other than gathering lines?

Safety Requirements

PHMSA believes that it may be appropriate to apply a limited subset of compliance activities, similar to those prescribed in part 192 for gas gathering lines.

• Leak Detection: Do hazardous liquid low stress line operators currently employ some type of leak detection techniques? If so, what techniques are used? What is an acceptable margin of error? Are margins determined daily?

• Operator Qualification: Should we apply Subpart N or a modified approach? If so, what should that modified approach be?

• Maintenance: Should federal regulations address preventative measures, such as the routine use of corrosion prevention and smart pigs which are capable of detecting corrosion? Do operators routinely run cleaning pigs on its low stress lines?

• Implementation Timeframes: Are 18-month through 2-year timeframes adequate for operators to address new construction, corrosion, operator qualification and excavation damage; to provide public education; and to report accident and safety-related conditions?

Costs/Benefits

PHMSA must address cost and benefits in developing all regulatory proposals. PHMSA is gathering cost data to justify a proposal.

• How many pipelines will be impacted?

• What is the mileage?

• What is the average length of those lines?

• What is the cost of bringing unregulated lines into compliance with part 195?

Effectiveness of Pipeline Control Room Management Public Workshop

June 27 (8 a.m.-5 p.m.)

In conjunction with the Joint Committee meetings, PHMSA will hold a public workshop on opportunities to improve the effectiveness of pipeline control room operations. This workshop will provide the public and industry an opportunity to discuss options for effectiveness of pipeline control room operations and assessing management processes, human fatigue issues, qualification, and other programs affecting pipeline control.

Background of Controller Certification Pilot Program

In addressing the requirements in the Pipeline Safety Improvement Act (PSIA) of 2002, section 13(b), PHMSA conducted a Controller Certification Pilot Program (CCERT). The purpose of the pilot program was to: (1) Review training programs, qualification requirements, evaluation methods, evaluation criteria, success thresholds, and reevaluation intervals to determine their adequacy and thoroughness in the controller qualification process; (2) evaluate the effectiveness of the practices and administrative processes currently used by operators in the qualification of controllers; (3) examine the thoroughness of operating procedures and practices used by controllers which impact safety and integrity; and (4) explore how these processes and evaluation criteria could be used to develop uniform protocols and acceptance criteria for the validation of pipeline operators' controller qualification processes. Despite differences between natural gas and hazardous liquid pipelines, PHMSA believes controllers for both types of pipelines require similar cognitive and analytical skills.

During the same period of time in which PHMSA was conducting the ongoing CCERT Project, the National Transportation Safety Board (NTSB) was conducting a separate study on hazardous liquid pipeline Supervisory Control and Data Acquisition (SCADA) systems (2002-2005). The NTSB study examined how pipeline companies use SCADA systems to monitor and record operating data and to evaluate the role of SCADA systems in leak detection. The impetus of the NTSB study was the number of hazardous liquid accidents the NTSB investigated in which leaks went undetected after the SCADA system indicated the leak. While the NTSB SCADA Safety Study specifically addresses hazardous liquid pipelines, they previously issued about 30 recommendations over the past 30 years either directly or indirectly related to SCADA systems involving both hazardous liquid and natural gas pipeline systems. The NTSB's SCADA Safety Study and the CCERT project yielded many similar findings. PHMSA identified some additional areas of concern. The recommendations from the NTSB's SCADA Safety Study are as follows:

• Require operators of hazardous liquid pipelines to follow the American Petroleum Institute's Recommended Practice 1165 [API RP 1165] for the use of graphics on the SCADA screens.

• Require pipeline companies to have a policy for the review/audit of alarms.

• Require controller training to include simulator or non-computerized simulations for controller recognition of abnormal operating conditions, in particular, leak events.

• Change the liquid accident reporting form (PHMSA F 7000-1) and require operators to provide data related to controller fatigue.

• Require operators to install computer-based leak detection systems on all lines unless engineering analysis determined that such a system is not necessary.

PHMSA plans to address the first four recommendations listed above within the CCERT Project. PHMSA plans to address the leak detection recommendation separately.

The NTSB previously recommended PHMSA address human factors by establishing scientifically based hours of service regulations that set limits on hours of service, provide predictable work and rest schedules, and consider circadian rhythms and human sleep and rest requirements. The NTSB also recommended PHMSA assess the potential safety risks associated with rotating pipeline controller shifts and establish industry guidelines for the development and implementation of pipeline controller work schedules to reduce the likelihood of accidents attributable to controller fatigue. In response, PHMSA held a meeting on fatigue and issued Advisory Bulletin ADB-05-06, “Countermeasures to Prevent Human Fatigue in the Control Room” (70 FR 46917; August 11, 2005).

This workshop will provide information and promote discussion on the most critical factors emerging from the certification study project and the NTSB recommendations affecting controlling the operation of natural gas and hazardous liquid pipelines. Meetings with state pipeline regulators, pipeline operators, academia, members of the public, parallel industry representatives, vendors and simulator specialists to conduct analyses and evaluations help frame PHMSA's findings. PHMSA is preparing a Report to Congress summarizing its findings regarding pipeline controller training, qualification programs and validation techniques to address the PSIA 2002 section 13(b)(2). PHMSA plans to submit its findings to Congress by the end of the year.

In the workshop, PHMSA will first present pilot program initial findings. PHMSA will provide an opportunity to discuss these findings as a basis for potential future regulatory enhancements and other actions to provide further assurance about the effectiveness of pipeline control and the skills and qualifications of controllers. PHMSA is encouraging public participation on the path forward. PHMSA will want to discuss what follow-up action is needed for each topic—for example, regulation, consensus standard, or advisory.

Preliminary Meeting Agenda for CCERT Workshop

This workshop will focus on the topics listed below. PHMSA will provide a summary on the critical nature of each topic in validating the effectiveness of pipeline control room operations and controller programs, followed by panel discussions and an opportunity for interested parties to provide comments.

Shift Operations

The exchange of information between controllers at shift change is critical for the controller going on shift who needs to know about operating conditions that may directly impact pipeline safety. PHMSA believes operators should have formalized procedures to control shift rotation schedules and guide shift change-over practices.

• What role do shift change procedures have in averting the development of abnormal and emergency situations?

• Do existing shift rotation schedules, shift length, and hours of service protect against the onset of fatigue?

Effectiveness of Pipeline Control Room Operations

PHMSA believes operators need to provide clear direction regarding the controller's authority and responsibility to ensure prompt detection and appropriate response to abnormal and emergency operating conditions.

• Do operators clearly communicate authority and responsibility expectations to their controllers?

Fatigue

PHMSA believes operators should limit controller shifts and provide periodic training on fatigue issues to controllers.

• What should be done regarding controller work hour limitations?

• Should we be concerned about employees' non-work hours that contribute to fatigue?

• Should PHMSA modify its reporting criteria on accident causes to reflect controller issues? If so, what areas should we address?

Management of Change

PHMSA believes operators should establish programs to: Periodically audit field data points with SCADA displays; develop integration plans affecting controllers during acquisition and divestitures; ensure including consultation with controllers when considering pipeline hydraulic, SCADA, or configuration changes; and track expedient resolution of controller-oriented changes and repairs.

• When changes occur in the operating environment affecting controllers, how do we ensure those changes are fully addressed and conveyed to controllers?

Alarms and Event Displays

Alarms and event displays provide information on potential precursors or indicators of abnormal operating conditions. Controllers should clearly understand displayed information and what specific alarms and event displays indicate. PHMSA believes it is important for operators to routinely review alarms and event displays to identify the need for revisions to alarm and event management systems.

• How significant are alarm parameters, alarm management, and the periodic review of alarms to pipeline safety and integrity?

• What impacts do alarm descriptors, display parameters, and the use of color have on providing precise operational information to controllers?

Access Control

PHMSA believes operators should have measures in place to protect against unauthorized access to SCADA control consoles; configure SCADA systems for individual log-ins; and perform background checks on controllers.

• Are there additional measures needed to address controller room access to SCADA systems?

Qualification of Personnel

PHMSA believes simulators and tabletop exercises are valuable tools to help familiarize controllers with the hydraulic response of the pipeline system and improve their recognition of abnormal and emergency conditions. A controller's thorough knowledge of pipeline system hydraulic response is critical to recognizing abnormal operating condition development. PHMSA believes operators should incorporate tabletop exercises, and/or computerized simulations and field visits to enhance controller training.

• How can computer-based simulator training and tabletop exercises enhance controller skills?

• What are the benefits of training controllers on specific pipeline hydraulic parameters and response to various abnormal operating conditions?

• What value can controllers get from facility visits and site-specific emergency issues?

Regulating Operating Conditions

Incidents, accidents, safety-related condition reports and operator qualification inspections indicate the need for enhanced controller skills on prompt, appropriate response regarding the recognition of abnormal operating conditions and emergency conditions. Parallel industries have identified the need to develop training around combinations of abnormal operating conditions and operating experience. PHMSA believes operators should address abnormal operating conditions occurring frequently and in combinations.

• How can we better identify and train operators to handle abnormal operating events?

• What roles can operational events play in identifying emergency operating conditions?

• How do we plan for and identify multiple contributing causes/factors when incidents and accidents occur?

• What role do controllers have in reacting and responding to incidents/accidents?

Maintaining Personnel Qualifications

Operator qualification inspection summaries and CCERT industry review indicate operators frequently do not substantiate re-qualification intervals for controllers. Many operators' programs do not provide guidance to determine when a controller needs refresher training, needs more training, or needs to requalify after disqualification. PHMSA believes these attributes should be incorporated into operators' qualification programs.

• What process best serves to validate controllers' skills and knowledge?

• What forms of justification are adequate to substantiate requalification intervals?

• Should the operator qualification process include documentation of revocation and restoration criteria?

Monitoring Performance

PHMSA has determined that some operators configure SCADA systems to portray critical information using color alone without verifying the controllers' ability to perceive color. Similar circumstances may exist concerning eyesight and hearing. PHMSA believes that operators should periodically verify that controllers have adequate color perception, eyesight, and hearing.

• What practical techniques can be used to track ongoing performance and monitor for performance degradation over time?

• How would a pipeline operator determine and test for adequate color perception, eyesight, and hearing?

Path Forward

PHMSA believes these findings apply in varying degrees to both hazardous liquid and natural gas pipeline operators. The path forward may include some of the following options: Public workshop discussions, reinforcement of existing regulations, consensus standards development, advisory bulletins, revised inspection guidance, accident/incident form revisions, enhancements to PHMSA incident/accident inspector training, SCADA inspections, or rulemaking.

• Which of these recommendations should apply to both hazardous liquid and natural gas pipeline operators?

• What areas should we focus on in addressing the NTSB recommendations and CCERT Project findings?

• What findings need regulatory action, if any? Are there other types of actions needed, such as consensus standards or advisories?

The Technical Hazardous Liquid Pipeline Safety Standards Advisory Committee

Wednesday, June 28 (8 a.m. to 9 a.m.)

The THLPSSC will meet to discuss and vote on the NPRM, Integrity Management: Program Modifications and Clarifications (70 FR 74265; December 5, 2005). PHMSA proposes revisions to the current Pipeline Safety Regulations for Pipeline Integrity Management in High Consequence Areas. The revisions address a petition from the hazardous liquid pipeline industry. The proposed revisions are to: (1) Allow more flexibility in reassessment intervals for hazardous liquid pipelines by adding an eight-month window to the five-year time frame for operators to complete reassessment; and (2) require both hazardous liquid pipeline and transmission pipeline operators to notify PHMSA whenever they reduce pipeline pressure to make a repair and to provide reasons for pressure reduction. Another notification, including reasons for repair delay, would occur when a pressure reduction exceeds 365 days. Also, PHMSA proposes to correct existing provisions for calculating a pressure reduction when making an immediate repair on a hazardous liquid pipeline. The proposed correction would allow operators to use another acceptable method to calculate reduced operating pressure when a specified formula is not applicable or results in a calculated pressure higher than operating pressure. Finally, PHMSA seeks the submittal of engineering analyses and technical data. These submittals are to provide the basis for modifying the required time periods for remediating certain conditions found during a hazardous liquid pipeline integrity assessment. PHMSA will use this data to evaluate the scope and scale of repair issues to develop an accurate basis for determining if any additional flexibility is needed in the repair schedules.

Joint Meetings of the Technical Hazardous Liquid Pipeline Safety Standards Committee and the Technical Pipelines Safety Standards Committee

Wednesday, June 28 (9:30 a.m. to 4:30 p.m.)

The THLPSSC and TPSSC will hold a joint session from 9:30 am. to 4:30 p.m. to discuss the following regulatory matters.

Preliminary Agenda for the Joint Meetings

The day's agenda includes these topics:

• Reauthorization of the Pipeline Safety Act—Discuss status.

• Data Improvement/Balance Scorecard—Discuss a variety of data quality improvements. Introduce the concept of a company performance scorecard to measure and manage company safety and compliance programs.

• Performance Measures/Metrics—Discuss continuing efforts to improve pipeline safety by concentrating performance measures on serious incidents as a natural outgrowth of integrity management.

• Maximum Allowable Operating Pressure—Discuss the waiver process criteria for reconsideration of the maximum allowable operating pressure of pipelines in certain class locations.

• Operator Qualification—Discuss the comments received from the public meeting on the subject held on December 15, 2005 (70 FR 62162). The meeting provided an opportunity to discuss progress on the operator qualification program and to help PHMSA prepare the Report to Congress and the potential the American Society of Mechanical Engineers consensus standard offers for strengthening operator qualification programs.

• Controller Certification Pilot Program—Provide a summary of the comprehensive review of existing controller qualification procedures and practices in industry and describe the recommendations drafted for inclusion in the draft report to Congress. Discuss NTSB recommendations on SCADA and human fatigue and report on solutions considered in preparation for the public workshop.

• Public Education (PANEL)—Discuss the PHMSA Public Education Policy Statement and the status of a national clearinghouse to review updated operator plans. Brief members on the status of the sensitive security information designation of the PHMSA National Pipeline Mapping System availability to the public. Discuss the Common Ground Alliances' status of the Dial 811 initiative and promote the success of the Regional Common Ground Alliances and the need to have one in every state.

Technical Pipeline Safety Standards Committee Meeting

Wednesday, June 28 (5 p.m. to 6 p.m.)

The TPSSC will meet from 5 p.m. to 6 p.m. to address the following two topics:

• Internal Corrosion—Discuss and vote on “Design and Construction Standards to Reduce Internal Corrosion in Gas Transmission Pipelines” (70 FR 74262; 12-15-05). This document proposes regulations on the control of internal corrosion when designing and constructing new and replaced gas transmission pipelines. The proposed rule would require an operator to take steps in design and construction to reduce the risk that liquids collecting within the pipeline could result in failures because of internal corrosion. These changes would ease steps an operator must take in operating and maintaining the pipeline to minimize internal corrosion.

• Gas Distribution-DIMP/Excess Flow Valves—Provide an update on the regulatory proposal and an update on Gas Pipeline Technology Committee guidance development.

PHMSA will post more detailed agendas and any additional information or changes on its Web page (http://phmsa.dot.gov) approximately 15 days before the meeting date.

Authority: 49 U.S.C. 60102, 60115.

Issued in Washington, DC, on April 26, 2006.
Stacey L. Gerard,
Associate Administrator for Pipeline Safety.

[FR Doc. 06-4093 Filed 4-27-06; 8:45 am]

BILLING CODE 4910-60-P